DEPARTMENT OF TRANSPORTATION

Federal Aviation Administration

14 CFR Part 39

[Docket No. 2002-NM-99-AD; Amendment 39-12731; AD 2002-08-19]

RIN 2120-AA64

Airworthiness Directives; Bombardier Model CL-600-2C10 (Regional Jet Series 700 and 701) Series Airplanes

AGENCY: Federal Aviation Administration, DOT.

ACTION: Final rule; request for comments.

SUMMARY: This amendment supersedes an existing airworthiness directive (AD), applicable to certain Bombardier Model CL-600-2C10 (Regional Jet Series 700 and 701) series airplanes, that currently requires revising the Airplane Flight Manual to address uncommanded transfer of fuel between the wing fuel tanks and the center fuel tank; revising the Minimum Equipment List; limiting airplane operation; and increasing normal mission fuel requirements by 3,000 pounds. This amendment retains the requirements of the existing AD, and adds requirements for modification of the fuel distribution system for the center tank; and an inspection of that system for discrepancies, and corrective actions if necessary. This amendment is prompted by reports of uncommanded fuel transfer between wing fuel tanks and the center fuel tank, and reports of misaligned or damaged fuel tubes due to vibration. The actions specified in this AD are intended to ensure that the flight crew has the procedures necessary to address uncommanded fuel transfer; and to detect and correct discrepancies in the fuel distribution system, which could cause the center tank to overfill and fuel to leak from the center tank vent system or to become inaccessible, and could result in engine fuel starvation.

DATES: Effective May 28, 2002.

The incorporation by reference of certain publications listed in the regulations is approved by the Director of the Federal Register as of May 28, 2002.

Comments for inclusion in the Rules Docket must be received on or before June 12, 2002.

ADDRESSES: Submit comments in triplicate to the Federal Aviation Administration (FAA), Transport Airplane Directorate, ANM-114, Attention: Rules Docket No. 2002-NM-99-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via fax or the Internet must contain “Docket No. 2002-NM-99-AD” in the subject line and need not be submitted in triplicate. Comments sent via the Internet as attached electronic files must be formatted in Microsoft Word 97 for Windows or ASCII text.

The service information referenced in this AD may be obtained from Bombardier, Inc., Canadair Aerospace Group, P.O. Box 6087, Station Centre-ville, Montreal, Quebec H3C-3G9, Canada. This information may be examined at the FAA, Transport Airplane Directorate, 1601 Lind Avenue, SW., Renton, Washington; or at the FAA, New York Aircraft Certification Office, 10 Fifth Street, Third Floor, Valley Stream, New York; or at the Office of the Federal Register, 800 North Capitol Street, NW., suite 700, Washington, DC.

FOR FURTHER INFORMATION CONTACT: James Delisio, Aerospace Engineer, Airframe and Propulsion Branch, ANE-171, FAA, New York Aircraft Certification Office, 10 Fifth Street, Third Floor, Valley Stream, New York 11581; telephone (516) 256-7521; fax (516) 568-2716.

SUPPLEMENTARY INFORMATION: On March 21, 2002, the FAA issued AD 2002-06-51, amendment 39-12688 (67 FR 14844, March 28, 2002), applicable to certain Bombardier Model CL-600-2C10 (Regional Jet Series 700 and 701) series airplanes, to require revising the Airplane Flight Manual (AFM) to provide procedures for addressing uncommanded transfer of fuel from wing fuel tanks to the center fuel tank. That action also requires revising the Minimum Equipment List (MEL); limiting operation of the airplane to flight within 60 minutes of a suitable alternative airport; and ensuring that normal mission fuel requirements are increased by 3,000 pounds. That action was prompted by reports of uncommanded fuel transfer between the wing fuel tanks and the center fuel tank. The actions required by that AD are intended to ensure that the flight crew has the procedures necessary to address such uncommanded fuel transfer, which could cause the center tank to overfill, and fuel to leak from the center tank vent system or to become inaccessible, and result in engine fuel starvation.

Actions Since Issuance of Previous Rule

Since the issuance of that AD, Transport Canada Civil Aviation (TCCA), which is the airworthiness authority for Canada, has advised the FAA that vibration and misalignment of fuel lines in the center fuel tank could cause damage to the fuel line couplings, and result in leakage of fuel within the center tank. Extensive fuel leakage within the center tank could result in an increase in unusable fuel and consequent engine fuel starvation.

Explanation of Relevant Service Information

Bombardier has issued two alert service bulletins to provide increased reliability for the fuel system. The procedures included in these alert service bulletins are described as follows:

CRJ700 (Bombardier) Alert Service Bulletin A670BA-28-007, Revision B, dated March 18, 2002, specifies procedures for modifying the fuel distribution system for the center tank. Modification includes installing new brackets and attaching the ejectors with new P-clamps, replacing couplings (four in total) with new couplings, and relocating certain brackets.

CRJ700 (Bombardier) Alert Service Bulletin A670BA-28-005, Revision B, dated March 21, 2002, specifies procedures for inspection of the motive flow line and fuel feed line in the fuel distribution system for the center tank to detect discrepancies, and corrective actions if necessary. Discrepancies include misalignment, pre-loading, or damage to certain parts such as the fuel lines, couplings, boost pump canisters, check valves, ejectors, and P-clamps. Corrective actions include replacement of any part that exceeds the limit specified by the alert service bulletin, and proper alignment of parts.

TCCA issued Canadian airworthiness directive CF-2002-22, dated March 22, 2002, in order to ensure the continued airworthiness of these airplanes in Canada.

FAA's Conclusions

This airplane model is manufactured in Canada and is type certificated for operation in the United States under the provisions of section 21.29 of the Federal Aviation Regulations (14 CFR 21.29) and the applicable bilateral airworthiness agreement. Pursuant to this bilateral airworthiness agreement, TCCA has kept the FAA informed of the situation described above. The FAA has examined the findings of TCCA, reviewed all available information, and determined that AD action is necessary for products of this type design that are certificated for operation in the United States.

Explanation of Requirements of Rule

Since an unsafe condition has been identified that is likely to exist or develop on other airplanes of the same type design registered in the United States, this AD supersedes AD 2002-06-51 to continue to require revising the AFM to address uncommanded transfer of fuel from wing fuel tanks to center fuel tank; revising the MEL; limiting airplane operation; and increasing normal mission fuel requirements by 3,000 pounds. This AD adds requirements for modifying the fuel distribution system for the center tank; a one-time inspection of the motive flow line and fuel feed line in the fuel distribution system for discrepancies, and corrective actions if necessary. The actions are required to be accomplished per the alert service bulletins described previously, except as discussed below.

Differences Between This AD and Canadian Airworthiness Directive

Operators should note that the applicability of the Canadian airworthiness directive specifies serial numbers 10005 through 10039. However, this AD expands the applicability to include airplanes having serial numbers 10005 and subsequent. The FAA considers that such an expansion is necessary until a modification is developed by the manufacturer and approved by the FAA to address the identified unsafe condition and ensure continued operational safety of the fleet.

Operators also should note that, although the Canadian airworthiness directive specifies that the actions may be accomplished per the previously referenced alert service bulletins, “or later revisions,” this AD requires modification and inspection actions to be accomplished per specific alert service bulletins. The FAA points out that where a specific service bulletin is referenced in an AD, the use of the phrase, “or later revisions,” violates Office of the Federal Register regulations regarding approval of materials that are incorporated by reference.

Difference Between This AD and Canadian Airworthiness Directive/Alert Service Bulletin

Operators should note that, although the Canadian airworthiness directive and the applicable alert service bulletin specify a “visual inspection,” this AD specifies a “detailed inspection.”

Interim Action

This is considered to be interim action. The manufacturer has advised that it currently is developing a modification that will positively address the unsafe condition addressed by this AD. Once this modification is developed, approved, and available, the FAA may consider additional rulemaking.

Clarification of AD 2002-06-51

Paragraph (a) of this AD has been revised to clarify the reference to AD 2002-06-51 by adding “amendment 39-12688” following the AD number.

Paragraph (d) of this AD has been revised to clarify the operational requirements cited in paragraph (d) of AD 2002-06-51.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2002-NM-99-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12688 (67 FR 14844, March 28, 2002), and by adding a new airworthiness directive (AD), amendment 39-12731, to read as follows:

2002-08-19 Bombardier, Inc. (Formerly Canadair): Amendment 39-12731. Docket 2002-NM-99-AD. Supersedes AD 2002-06-51, Amendment 39-12688.

Applicability: Model CL-600-2C10 (Regional Jet Series 700 and 701) series airplanes, serial numbers 10005 and subsequent; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (k) of this AD. The request should include an assessment of the effect of the modification, alteration, or repair on the unsafe condition addressed by this AD; and, if the unsafe condition has not been eliminated, the request should include specific proposed actions to address it.

Compliance: Required as indicated, unless accomplished previously.

To ensure that the flight crew has the procedures necessary to address uncommanded fuel transfer between the wing fuel tanks and the center fuel tank; and to detect and correct discrepancies in the fuel distribution system for the center tank, which could cause the center tank to overfill and fuel to leak from the center tank vent system or to become inaccessible, and could result in engine fuel starvation; accomplish the following:

Restatement of Requirements of AD 2002-06-51

Revision of Airplane Flight Manual (AFM)

(a) For airplanes having serial numbers 10005 through 10039: Within 2 days after April 2, 2002 (the effective date of AD 2002-06-51, amendment 39-12688), revise the Limitations and Abnormal Procedures sections of Canadair Regional Jet Series 700 of FAA-approved AFM CSP B-012 to include the following information included in paragraphs (a)(1) and (a)(2) of this AD (this may be accomplished by inserting a copy of this AD into the AFM):

(1) Revise the “Limitations—Power Plant,” Paragraph 6, “Fuel” to include the following information, per Canadair Temporary Revision (TR) RJ 700/23-1, dated March 7, 2002:

“Dispatch with the fuel quantity gauging system inoperative is prohibited.”

(2) Revise the “Abnormal Procedures—Fuel,” Paragraph H, “L or R Main Ejector” to include the following information, per Canadair TR RJ 700/23-1, dated March 7, 2002:

“H. L or R MAIN EJECTOR
(1) Left and right boost pumps | Confirm operating
(2) Affected engine instruments | Monitor
(3) Fuel tank quantity | Monitor and balance, if required
If centre tank quantity increases abnormally (by more than 227 kg (500 lb)):
(4) Land at the nearest suitable airport
If centre tank quantity continues to increase (by more than 454 kg (1000 lb)):
(5) Affected engine thrust | IDLE
(6) Consider shutting down affected engine to prevent centre tank transfer
• Ensure both BOOST PUMPs are operating.
If centre tank quantity further continues to increase (by more than 680 kg (1500 lb)):
(7) Land immediately at the nearest suitable airport.”

Revision of Minimum Equipment List (MEL)

(b) For airplanes having serial numbers 10005 through 10039: Within 2 days after April 2, 2002, remove the relieving requirements specified in MEL CL-600-2C10 for the following items:

(1) Transfer Ejectors (Center Tank) (Ref. Master Minimum Equipment List (MMEL) Item 28-13-07).

(2) Fuel Transfer shutoff valves (SOV) (Center Tank) (Ref. MMEL Item 28-13-08).

(3) Xflow Pump (Ref. MMEL Item 28-13-10).

(4) Engine Indication and Crew Alerting System (EICAS) Fuel Tank Quantity Readouts (Left, Right, and Total) (Ref. MMEL Item 28-41-01).

(5) EICAS Center and Total Fuel Tank Quantity Readouts (Ref. MMEL Item 28-41-02).

(6) Fuel Computer Channels (Ref. MMEL Item 28-41-03).

Operational Limitation

(c) For airplanes having serial numbers 10005 through 10039: Within 2 days after April 2, 2002, revise the Limitations section of Canadair Regional Jet Series 700 of FAA-approved AFM CSP B-012 to limit operation of the airplane to flight within 60 minutes of a suitable alternative airport. This action may be accomplished by inserting a copy of this AD into the Limitations section of the AFM.

Operational Requirements

(d) For airplanes having serial numbers 10005 through 10039: Within 2 days after April 2, 2002, revise the Limitations section of Canadair Regional Jet Series 700 of FAA-approved AFM CSP B-012 to specify that, prior to each further flight, the normal mission fuel requirements are increased by 3,000 pounds. This action may be accomplished by inserting a copy of this AD into the Limitations section of the AFM.

New Requirements of This AD

Revision of Airplane Flight Manual (AFM)

(e) For airplanes other than those identified in paragraph (a) of this AD: Within 2 days after the effective date of this AD, revise the Limitations and Abnormal Procedures sections of Canadair Regional Jet Series 700 of FAA-approved AFM CSP B-012 to include the following information included in paragraphs (e)(1) and (e)(2) of this AD (this may be accomplished by inserting a copy of this AD into the AFM):

(1) Revise the “Limitations—Power Plant,” Paragraph 6, “Fuel” to include the following information, per Canadair Temporary Revision (TR) RJ 700/23-1, dated March 7, 2002:

“Dispatch with the fuel quantity gauging system inoperative is prohibited.”

(2) Revise the “Abnormal Procedures—Fuel,” Paragraph H, “L or R Main Ejector” to include the following information, per Canadair TR RJ 700/23-1, dated March 7, 2002:

“H. L or R MAIN EJECTOR
(1) Left and right boost pumps | Confirm operating
(2) Affected engine instruments | Monitor
(3) Fuel tank quantity | Monitor and balance, if required
If centre tank quantity increases abnormally (by more than 227 kg (500 lb)):
(4) Land at the nearest suitable airport.
If centre tank quantity continues to increase (by more than 454 kg (1000 lb)):
(5) Affected engine thrust | IDLE
(6) Consider shutting down affected engine to prevent centre tank transfer.
• Ensure both BOOST PUMPs are operating.
If centre tank quantity further continues to increase (by more than 680 kg (1500 lb)):
(7) Land immediately at the nearest suitable airport.”

Revision of Minimum Equipment List (MEL)

(f) For airplanes other than those identified in paragraph (b) of this AD: Within 2 days after the effective date of this AD, remove the relieving requirements specified in MEL CL-600-2C10 for the following items.

(1) Transfer Ejectors (Center Tank) (Ref. Master Minimum Equipment List (MMEL) Item 28-13-07).

(2) Fuel Transfer shutoff valves (SOV) (Center Tank) (Ref. MMEL Item 28-13-08).

(3) Xflow Pump (Ref. MMEL Item 28-13-10).

(4) Engine Indication and Crew Alerting System (EICAS) Fuel Tank Quantity Readouts (Left, Right, and Total) (Ref. MMEL Item 28-41-01).

(5) EICAS Center and Total Fuel Tank Quantity Readouts (Ref. MMEL Item 28-41-02).

(6) Fuel Computer Channels (Ref. MMEL Item 28-41-03).

Operational Limitation

(g) For airplanes other than those identified in paragraph (c) of this AD: Within 2 days after the effective date of this AD, revise the Limitations section of Canadair Regional Jet Series 700 of FAA-approved AFM CSP B-012 to limit operation of the airplane to flight within 60 minutes of a suitable alternative airport. This action may be accomplished by inserting a copy of this AD into the Limitations section of the AFM.

Operational Requirements

(h) For airplanes other than those identified in paragraph (d) of this AD: Within 2 days after the effective date of this AD, revise the Limitations section of Canadair Regional Jet Series 700 of FAA-approved AFM CSP B-012 to specify that, prior to each further flight, the normal mission fuel requirements are increased by 3,000 pounds. This action may be accomplished by inserting a copy of this AD into the Limitations section of the AFM.

Modification

(i) For airplanes having serial numbers 10005 through 10039 inclusive: Within 200 flight hours after the effective date of this AD, modify the fuel distribution system for the center tank per CRJ700 (Bombardier) Alert Service Bulletin A670BA-28-007, Revision B, dated March 18, 2002.

(1) Install new brackets, part numbers (P/N) KBA670-62010-1 and P/N KBA670-62010-2; and attach ejectors with new P-clamps.

(2) Replace existing couplings (four in total), P/N B0305025A24, with new couplings, P/N B0305072-24DE.

(3) Relocate brackets, P/N CC670-62278-1 and P/N CC670-62278-2.

Note 2: Modifications accomplished prior to the effective date of this AD per CRJ700 (Bombardier) Alert Service Bulletin A670BA-28-007, original issue, dated March 12, 2002; or Revision A, dated March 15, 2002; are considered acceptable for compliance with the applicable action specified in this AD.

Inspection and Corrective Actions

(j) For airplanes having serial numbers 10005 and subsequent: Accomplish a one-time detailed inspection of the motive flow line and fuel feed line in the fuel distribution system for the center tank to detect any discrepancy (including misalignment, pre-loading, or damage) per CRJ700 (Bombardier) Alert Service Bulletin A670BA-28-005, Revision B, dated March 21, 2002, including Appendix A, dated February 8, 2002; at the time specified in paragraph (j)(1) or (j)(2) of this AD, as applicable. If any discrepancy is found, before further flight, replace any part that exceeds the limit in the alert service bulletin; and correct any misalignment of parts; per the alert service bulletin.

(1) For airplanes on which the detailed inspection required by paragraph (j) of this AD has been accomplished per CRJ700 (Bombardier) Alert Service Bulletin A670BA-28-005, original issue, dated February 8, 2002; or Revision A, dated March 12, 2002; prior to the effective date of this AD: Do the inspection within 400 flight hours after performing the most recent detailed inspection, or within 200 flight hours after the effective date of this AD, whichever occurs later.

(2) For airplanes other than those identified in paragraph (j)(1) of this AD: Do the inspection within 400 flight hours after the effective date of this AD.

Note 3: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Alternative Methods of Compliance

(k) An alternative method of compliance or adjustment of the compliance time that provides an acceptable level of safety may be used if approved by the Manager, New York Aircraft Certification Office (ACO), FAA. Operators shall submit their requests through an appropriate FAA Principal Maintenance Inspector, who may add comments and then send it to the Manager, New York ACO.

Note 4: Information concerning the existence of approved alternative methods of compliance with this AD, if any, may be obtained from the New York ACO.

Special Flight Permits

(l) Special flight permits may be issued in accordance with sections 21.197 and 21.199 of the Federal Aviation Regulations (14 CFR 21.197 and 21.199) to operate the airplane to a location where the requirements of this AD can be accomplished. The operational limitations and requirements of paragraphs (c) and (d) of this AD will be applicable to all special flight permits.

Incorporation by Reference

(m) Except as provided by paragraphs (a) through (h) of this AD, the actions shall be done in accordance with Canadair Temporary Revision RJ 700/23-1, dated March 7, 2002; CRJ700 (Bombardier) Alert Service Bulletin A670BA-28-005, Revision B, dated March 21, 2002, including Appendix A, dated February 8, 2002; and CRJ700 (Bombardier) Alert Service Bulletin A670BA-28-007, Revision B, dated March 18, 2002; as applicable. CRJ700 (Bombardier) Alert Service Bulletin A670BA-28-005, Revision B, dated March 21, 2002, contains the following list of effective pages:

Page number | Revision level shown on page | Date shown on page
1-36 | B | March 21, 2002.
Appendix A
A1, A2 | Original | February 8, 2002.

(The manufacturer's name is indicated only on page 1 of the service bulletins; no other pages of these documents contain this information.) This incorporation by reference was approved by the Director of the Federal Register in accordance with 5 U.S.C. 552(a) and 1 CFR part 51. Copies may be obtained from Bombardier, Inc., Canadair Aerospace Group, P.O. Box 6087, Station Centre-ville, Montreal, Quebec H3C3G9, Canada. Copies may be inspected at the FAA, Transport Airplane Directorate, 1601 Lind Avenue, SW., Renton, Washington; or at the FAA, New York Aircraft Certification Office, 10 Fifth Street, Third Floor, Valley Stream, New York; or at the Office of the Federal Register, 800 North Capitol Street, NW., suite 700, Washington, DC.

Note 5: The subject of this AD is addressed in Canadian airworthiness directive CF-2002-22, dated March 22, 2002.

Effective Date

(n) This amendment becomes effective on May 28, 2002.

Issued in Renton, Washington, on May 7, 2002.
Ali Bahrami,
Acting Manager, Transport Airplane Directorate, Aircraft Certification Service.

[FR Doc. 02-11942 Filed 5-10-02; 8:45 am]

BILLING CODE 4910-13-P